DEPARTMENT OF THE INTERIOR

Fish and Wildlife Service

[FWS-R6-ES-2015-N052; FXES11130600000-156-FF06E00000]

Endangered and Threatened Wildlife and Plants; Draft Revised Recovery Plan for the Piping Plover

AGENCY: Fish and Wildlife Service, Interior.

ACTION: Notice of document availability for review and comment.

SUMMARY: The U.S. Fish and Wildlife Service (Service) announces the availability of a draft revised recovery plan for the Northern Great Plains piping plover population. This population is federally listed as threatened under the Endangered Species Act of 1973, as amended (Act). The Service solicits review and comment from the public on this draft revised plan.

DATES: Comments on the draft revised recovery plan must be received on or before May 16, 2016.

ADDRESSES: Copies of the draft revised recovery plan are available by request from the North Dakota Field Office, U.S. Fish and Wildlife Service, 3425 Miriam Avenue, Bismarck, ND 58501; telephone 701-250-4481. Submit comments on the draft recovery plan to the Project Leader at this same address or to pipingplovercomments@fws.gov. An electronic copy of the draft recovery plan is available at http://www.fws.gov/endangered/species/recovery-plans.html.

FOR FURTHER INFORMATION CONTACT: Project Leader, at the above address, or telephone 701-250-4481.

SUPPLEMENTARY INFORMATION:

Background

Restoring an endangered or threatened animal or plant to the point where it is again a secure, self-sustaining member of its ecosystem is a primary goal of the Service's endangered species program. To help guide the recovery effort, the Service prepares recovery plans for the federally listed species where a plan will promote the conservation of the species. Recovery plans describe site-specific actions necessary for the conservation of the species; establish objective, measurable criteria which, when met, would result in a determination that the species no longer needs the protection of the Act; and provide estimates of the time and cost for implementing the needed recovery measures.

The original plan for the species was approved in 1988. This draft revised recovery plan would replace the current version. Section 4(f) of the Act, as amended in 1988, requires that public notice and opportunity for public review and comment be provided during recovery plan development. The Service will consider all information received during a public comment period when preparing each new or revised recovery plan for approval. The Service and other Federal agencies also will take these comments into consideration in the course of implementing approved recovery plans. It is also our policy to request peer review of recovery plans. We will summarize and respond to the issues raised by the public and peer reviewers in an appendix to the approved recovery plan.

The Northern Great Plains population of the piping plover was listed as threatened under the provision of the Endangered Species Act on January 10, 1986 (50 FR 50726). The breeding population of the Northern Great Plains piping plover extends from Nebraska north along the Missouri River through South Dakota, North Dakota, and eastern Montana, and on alkaline (salty) lakes along the Missouri River Coteau (a large plateau extending north and east of the Missouri River) in North Dakota, Montana, and extending into Canada. The majority of piping plovers from Prairie Canada winter along the south Texas coast, while breeding piping plovers from the United States are more widely distributed along the Gulf Coast from Florida to Texas, with a small percentage of the population wintering along the Atlantic Coast and in the Bahamas.

Recovery of this species will require restoration of ecosystem functions on both the breeding and wintering grounds so that the population can persist into the foreseeable future without extensive human intervention. Since some human activities are likely to continue to impact piping plovers and their habitat, there will likely be continued public outreach, education, and partnerships for long-term protection and management even after recovery. Recovery actions are designed to protect the species' habitat and increase the knowledge of the species' genetics, life history, and population dynamics; the relationship of the piping plover to its environment; and its responses to identified threats.

Request for Public Comments

The Service solicits public comments on the draft revised recovery plan. All comments received by the date specified in DATES will be considered prior to approval of the plan. Written comments and materials regarding the plan should be addressed to the Project Leader (see ADDRESSES). Comments and materials received will be available, by appointment, for public inspection during normal business hours at the address under ADDRESSES. All public comment information provided voluntarily by mail or by phone becomes part of the official public record. If requested under the Freedom of Information Act by a private citizen or organization, the Service may provide copies of such information.

Authority

The authority for this action is section 4(f) of the Endangered Species Act, 16 U.S.C. 1533(f).

Dated: March 7, 2016.
Matt Hogan,
Deputy Regional Director, Denver, Colorado.

[FR Doc. 2016-05899 Filed 3-15-16; 8:45 am]

BILLING CODE 4310-55-P